DEPARTMENT OF THE INTERIOR

Bureau of Ocean Energy Management

[Docket No. BOEM-2012-0043]

Notice of Determination of No Competitive Interest

AGENCY: Bureau of Ocean Energy Management, Interior.

ACTION: Notice of Determination of No Competitive Interest for Proposed Right-of-Way Grant Area

SUMMARY: This notice provides the Bureau of Ocean Energy Management (BOEM) determination of no competitive interest (DNCI) for the area requested by Atlantic Grid Holdings LLC's (AGH) application for a right-of-way (ROW) grant to build an offshore electrical transmission system on the Outer Continental Shelf off the coasts of New York, New Jersey, Delaware, Maryland, and Virginia as described in the December 21, 2011, Notice of Proposed Grant Area and Request for Competitive Interest (RFCI) in the Area of the Atlantic Wind Connection Proposal (76 FR 79206).

DATES: Effective May 15, 2012.

FOR FURTHER INFORMATION CONTACT: For information on the DNCI, contact Mr. Casey Reeves, BOEM, Office of Renewable Energy Programs, 381 Elden Street HM 1328, Herndon, Virginia 20170-4817; phone (703) 787-1320.

SUPPLEMENTARY INFORMATION:

1. Authority

This DNCI is published pursuant to subsection 8(p)(3) of the Outer Continental Shelf (OCS) Lands Act, which was added by section 388 of the Energy Policy Act of 2005 (EPAct) (43 U.S.C. 1337(p)(3)), and the implementing regulations at 30 CFR part 585. Subsection 8(p)(3) of the OCS Lands Act requires that OCS renewable energy leases, easements, and rights-of-way be issued “on a competitive basis unless the Secretary determines after public notice of a proposed lease, easement, or right-of-way that there is no competitive interest.” The authority to make such determinations has been delegated to BOEM.

2. Determination and Next Steps

This DNCI provides notice to the public that BOEM has determined there is no competitive interest in the proposed ROW grant area, as no indications of competitive interest were submitted in response to the RFCI.

In the RFCI, BOEM also solicited public comment on site conditions and multiple uses within the ROW grant area that would be relevant to the proposed project or its impacts. BOEM received public comment submissions from 56 parties in response. The comments received in response to the RFCI will be used to inform BOEM in subsequent agency decisions. After the publication of this DNCI, BOEM will proceed with the noncompetitive ROW grant process outlined at 30 CFR 585.306(b).

3. Map of the Area

A map of the area proposed for a ROW grant area can be found at the following URL: http://www.boem.gov/Renewable-Energy-Program/State-Activities/Regional-Proposals.aspx.

Dated: April 27, 2012.
Tommy P. Beaudreau,
Director, Bureau of Ocean Energy Management.

[FR Doc. 2012-11823 Filed 5-14-12; 8:45 am]

BILLING CODE 4310-VH-P